DEPARTMENT OF ENERGY

Federal Energy Regulatory Commission

[Docket No. EL13-90-000]

Pacific Gas and Electric Company; Notice of Initiation of Proceeding and Refund Effective Date

On September 24, 2013, the Commission issued an order that initiated a proceeding in Docket No. EL13-90-000, pursuant to section 206 of the Federal Power Act (FPA), 16 U.S.C. 824e (2006), to determine the justness and reasonableness of the rate increase proposed by Pacific Gas and Electric Company. Pacific Gas and Electric Company, 144 FERC ¶ 61,277 (2013).

The refund effective date in Docket No. EL13-90-000, established pursuant to section 206(b) of the FPA, will be the date of publication of this notice in the Federal Register.

Dated: November 7, 2013.
Nathaniel J. Davis, Sr.,
Deputy Secretary.

[FR Doc. 2013-27386 Filed 11-14-13; 8:45 am]

BILLING CODE 6717-01-P